DEPARTMENT OF TRANSPORTATION

Research and Special Programs Administration

[Docket No. RSPA-97-2426]

Pipeline Safety: National Pipeline Mapping System (NPMS)

AGENCY: Office of Pipeline Safety, Research and Special Programs Administration, DOT.

ACTION: Notice.

SUMMARY: The Research and Special Programs Administration's (RSPA) Office of Pipeline Safety (OPS) will conduct a public meeting to discuss possible improvements in data submissions to the National Pipeline Mapping System (NPMS). Possible improvements are more detailed pipeline attributes, more accurate pipeline locational data, and delineation of natural gas transmission high consequence areas. The potential for collecting annual report data through data submitted to the NPMS will also be discussed.

DATES: Wednesday, May 28, 2003, from 9 a.m. to 12 p.m.

ADDRESSES: The public may attend the meeting at Loews L'Enfant Plaza Hotel, 480 L'Enfant Plaza, SW., Ballroom A, Lobby Level, Washington, DC.

An opportunity will be provided for the public to make short statements on the topics under discussion. Anyone wishing to make an oral statement should notify Jean Milam, (202) 493-0967, not later than May 19, 2003, on the topic of the statement and the length of the presentation. The presiding officer at each meeting may deny any request to present an oral statement and may limit the time of any presentation.

You may submit written comments by mail or deliver to the Dockets Facility, U.S. Department of Transportation (DOT), Room PL-401, 400 Seventh Street, SW., Washington, DC 20590-0001. It is open from 10 a.m. to 5 p.m., Monday through Friday, except Federal holidays. You also may submit written comments to the docket electronically. To do so, log onto the following Internet Web address: http://dms.dot.gov. Click on “Help & Information” for instructions on how to file a document electronically. All written comments should reference docket number RSPA-97-2426. Anyone who would like confirmation of mailed comments must include a self-addressed stamped postcard.

Anyone is able to search the electronic form of all comments received into any of our dockets by the name of the individual submitting the comment (or signing the comment, if submitted on behalf of an association, business, labor union, etc.). You may review DOT's complete Privacy Act Statement in the April 11, 2000, issue of the Federal Register (Volume 65, Number 70; Pages 19477-78) or you may visit http://dms.dot.gov.

Information on Services for Individuals With Disabilities

For information on facilities or services for individuals with disabilities or to request special assistance at the meeting, contact Jean Milam at (202) 493-0967.

FOR FURTHER INFORMATION CONTACT: Steve Fischer, OPS, (202) 366-6267 or Richard Huriaux, OPS, (202) 366-4565, regarding the subject matter of this notice. Additional information about the NPMS and the “National Pipeline Mapping System Standards for Pipeline and Liquefied Natural Gas Operator Submissions” can be found at http://www.npms.rspa.dot.gov.

SUPPLEMENTARY INFORMATION: NPMS is a geographic information system database that contains the locations and selected attributes of hazardous liquid and natural gas transmission pipelines, breakout tanks, and liquefied natural gas. The data collected for the NPMS is necessary for regulatory oversight and for monitoring the security of the pipelines. The Pipeline Safety Improvement Act of 2003 required operators to submit data to the NPMS by June 17, 2003. This initial submission is being done in accordance with guidance previously developed for voluntary data submissions to the NPMS.

RSPA/OPS is holding this public meeting to solicit public comments on the potential for improving NPMS data submissions and the potential for collecting certain annual report data elements as submissions to the NPMS.

Improvements being considered include more detailed pipeline attributes, more accurate pipeline locational data, and the identification of natural gas transmission pipeline high consequence areas. The additional data requirements for these improvements may include diameter, maximum operating pressure for hazardous liquid pipelines, and maximum allowable operating pressure for natural gas transmission pipelines.

The current NPMS target locational accuracy goal is +/−500 feet for submitted geospatial data. RSPA/OPS will be soliciting feedback at the meeting regarding the effort required by the pipeline industry to better this target locational accuracy. To date, 15% of the NPMS mileage submitted has an accuracy of +/−50 feet, 46% has an accuracy of +/−50 to 300 feet, 28% has an accuracy of +/−301 to 500 feet, and 11% is either +/−500 feet or unknown.

RSPA/OPS has identified NPMS data requirements that could support RSPA/OPS and State oversight of gas integrity management programs. At the meeting, RSPA/OPS will focus on how natural gas transmission operators delineate high-consequence areas and how that data could be submitted to the NPMS.

Much of the data collected through RSPA/OPS annual reports lends itself to geospatial representation and could be submitted to RSPA/OPS through the NPMS. The meeting will address allowing pipeline operators the option of submitting certain annual report data elements as an NPMS submission in the future.

Authority: 49 U.S.C. 60102, 60109, 60117.

Issued in Washington, DC, on April 25, 2003.
Stacey L. Gerard,
Associate Administrator for Pipeline Safety.

[FR Doc. 03-10690 Filed 4-30-03; 8:45 am]

BILLING CODE 4910-60-P